DEPARTMENT OF TRANSPORTATION

Surface Transportation Board

[STB Ex Parte No. 290 (Sub No. 5) (2005-1)]

Quarterly Rail Cost Adjustment Factor

AGENCY: Surface Transportation Board, DOT.

ACTION: Approval of rail cost adjustment factor.

SUMMARY: The Board has approved the first quarter 2005 rail cost adjustment factor (RCAF) and cost index filed by the Association of American Railroads. The first quarter 2005 RCAF (Unadjusted) is 1.107. The first quarter 2005 RCAF (Adjusted) is 0.546. The first quarter 2005 RCAF-5 is 0.521.

EFFECTIVE DATE: January 1, 2005.

FOR FURTHER INFORMATION CONTACT: Mac Frampton, (202) 565-1541. [Federal Information Relay Service (FIRS) for the hearing impaired: 1-800-877-8339.]

SUPPLEMENTARY INFORMATION: Additional information is contained in the Board's decision. To purchase a copy of the full decision, call ASAP Document Solutions at (301) 577-2600. [Assistance for the hearing impaired is available through FIRS: 1-800-877-8339.]

This action will not significantly affect either the quality of the human environment or energy conservation.

Pursuant to 5 U.S.C. 605(b), we conclude that our action will not have a significant economic impact on a substantial number of small entities within the meaning of the Regulatory Flexibility Act.

Decided: December 17, 2004.
By the Board, Chairman Nober, Vice Chairman Mulvey, and Commissioner Buttrey.
Vernon A. Williams,
Secretary.

[FR Doc. 04-28086 Filed 12-22-04; 8:45 am]

BILLING CODE 4915-01-P